DEPARTMENT OF VETERANS AFFAIRS

38 CFR Part 17

RIN 2900-AP10

Exempting Mental Health Peer Support Services From Copayments

AGENCY: Department of Veterans Affairs.

ACTION: Withdrawal of proposed rule.

SUMMARY: The Department of Veterans Affairs (VA) is withdrawing VA's proposed rulemaking, published in the Federal Register on November 28, 2014, to amend its regulation that governs VA services that are not subject to copayment requirements for inpatient hospital care or outpatient medical care. Specifically, the proposed rule would have amended the regulation to exempt mental health peer support services from having any required copayment. VA received no adverse comments concerning the proposed rule or its companion substantially identical direct final rule published in the Federal Register on the same date. In a companion document in this issue of the Federal Register, we are confirming that the direct final rule became effective on January 27, 2015. Accordingly, this document withdraws as unnecessary the proposed rule.

DATES: The proposed rule published on November 28, 2014, 79 FR 70941, is withdrawn as of November 5, 2015.

FOR FURTHER INFORMATION CONTACT: Kristin J. Cunningham, Director Business Policy, Chief Business Office (10NB6), Veterans Health Administration, Department of Veterans Affairs, 810 Vermont Ave. NW., Washington, DC 20420; (202) 382-2508. (This is not a toll-free number.)

SUPPLEMENTARY INFORMATION: In a proposed rule published in the Federal Register on November 28, 2014, 79 FR 70941, VA proposed to amend 38 CFR 17.108 to eliminate copayments for mental health peer support services. VA published a companion substantially identical direct final rule at 79 FR 70938, on the same date. The direct final rule and proposed rule each provided a 60-day comment period that ended on January 27, 2015. No adverse comments were received. Six comments that supported the rulemaking were received from the general public. One commenter also urged VA to exempt evidence-based, cost-effective primary care services from having a required copayment. This comment is outside the scope of this rulemaking, and therefore, VA is not making any changes to this rulemaking based on this comment.

Because no adverse comments were received within the comment period, VA is withdrawing the proposed rule as unnecessary. In a companion document in this issue of the Federal Register, VA is confirming the effective date of the direct final rule, RIN 2900-AP11, published at 79 FR 70938.

Signing Authority

The Secretary of Veterans Affairs, or designee, approved this document and authorized the undersigned to sign and submit the document to the Office of the Federal Register for publication electronically as an official document of the Department of Veterans Affairs. Robert L. Nabors II, Chief of Staff, Department of Veterans Affairs, approved this document on October 26, 2015, for publication.

Dated: November 2, 2015.
Michael P. Shores,
Chief Impact Analyst, Office of Regulation Policy & Management, Office of the General Counsel, Department of Veterans Affairs.

[FR Doc. 2015-28255 Filed 11-4-15; 8:45 am]

BILLING CODE 8320-01-P